DEPARTMENT OF DEFENSE

Department of the Army

Availability for Non-Exclusive or Partially Exclusive Licensing of a U.S. Patent Application

AGENCY: Department of the Army, DoD.

ACTION: Notice.

SUMMARY: Announcement is made of the availability for licensing of the invention set forth in U.S. Patent Application Serial No. 11/132,199, entitled “Construction of Live Attenuated Shigella Vaccine Strains that Express CFA/I Antigens (CFAB and CFAE) and the B Subunit of Heat-Labile Enterotoxin (LTB) From Enterotoxigenic E. Coli,” filed May 19, 2005. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to materials and methodologies for preparing multivalent vaccines, recombinant DNA expression products and more particularly to vector constructs which effectively express the cfaB, cfaE and LTB proteins in Shigella spp. without affecting the ability of the Shigella strain to invade cells of the colonic epithelium following oral administration to humans.

Brenda S. Bowen,
Army Federal Register Liaison Officer.

[FR Doc. 2010-16891 Filed 7-9-10; 8:45 am]

BILLING CODE 3710-08-P